DEPARTMENT OF COMMERCE

National Oceanic and Atmospheric Administration

50 CFR Part 660

[Docket No. 990430113-913-01; I.D. 022200E]

Fisheries Off West Coast and Western Pacific States; West Coast Salmon Fisheries; Adjustment in the Opening Date of the Recreational Seasons from Point Arena to the U.S.-Mexico Border

AGENCY: National Marine Fisheries Service (NMFS), National Oceanic and Atmospheric Administration (NOAA), Commerce.

ACTION: Inseason adjustment; request for comments.

SUMMARY: NMFS announces that recreational salmon fisheries will open on April 1, 2000, in the area from Pigeon Point, CA, to the U.S.-Mexico Border, and will open on April 15, 2000, in the area from Point Arena to Pigeon Point, CA. This action is consistent with the recommendations of the Pacific Fishery Management Council (Council) and actions taken by the California Fish and Game Commission (Commission) to delay the recreational fisheries opening south of Point Arena by approximately 2 weeks from the opening dates identified in the 1999 ocean salmon fishery management measures. This action is intended to provide additional protection to Central Valley spring chinook and ensure congruency between state and Federal management measures.

DATES: Effective March 17, 2000, until the effective date of the 2000 management measures, which will be published in the Federal Register for the west coast salmon fisheries. Comments will be accepted through March 20, 2000.

ADDRESSES: Comments on this action must be mailed to William Stelle, Jr., Regional Administrator, Northwest Region, NMFS, 7600 Sand Point Way NE., Seattle, WA 98115-0070; or faxed to 206-526-6736; or mailed to Rodney R. McInnis, Acting Regional Administrator, Southwest Region, NMFS, 501 W. Ocean Blvd., Suite 4200, Long Beach, CA 90802-4132; or faxed to 808-973-2941. Comments will not be accepted if submitted via e-mail or the Internet. Information relevant to this notice is available for public review during business hours at the offices of the Regional Administrators for the Northwest and Southwest Regions, NMFS.

FOR FURTHER INFORMATION CONTACT: William Robinson (NWR), 206-526-6140, or Svein Fougner (SWR), 562-980-4030.

SUPPLEMENTARY INFORMATION: Regulations governing the ocean salmon fisheries at 50 CFR 660.409(b)(1)(i) state that the Regional Director, in consultation with the Council Chairman and the appropriate State Directors, may, under the flexible inseason management provisions, modify quotas and/or fishing seasons. In adopting the 1999 annual management measures for the ocean salmon fishery (64 FR 24078, May 5, 1999), NMFS concurred with the Council's recommendation to open a recreational salmon fishery from Point Arena to Pigeon Point, CA on April 1, 2000, and a tentative recommendation, which was to be reviewed at the Council's November 1999 meeting, to open a recreational salmon fishery from Pigeon Point, CA to the U.S.-Mexico Border on March 18, 2000. On September 16, 1999 (64 FR 50394), NMFS listed Central Valley spring chinook salmon as threatened under the Endangered Species Act (ESA). In an October 15, 1999, letter to the Council Chairman, NMFS recommended that the existing ESA requirements for Sacramento River winter chinook be implemented as much as possible through a delay in the opening of recreational seasons south of Point Arena rather than through increases in the minimum size limits, in order to provide additional protection to Central Valley spring chinook. The Council, at its November meeting, reviewed the year 2000 opening dates for California recreational fisheries south of Point Arena and concurred that the openings could be delayed through inseason management action by NMFS prior to the March 2000 Council meeting if the Commission voted to delay the recreational season. The Commission, on February 4, 2000, took action to delay the scheduled opening of the recreational fisheries in state waters south of Point Arena by approximately 2 weeks in order to provide additional protection for Central Valley spring chinook, which are listed as threatened under the California ESA. The Commission's action effectively delays by 2 weeks the opening of recreational fisheries in Federal waters. The Federal action announced in this document will ensure consistency between state and Federal management measures.

Maturing spring chinook leave the ocean in March and April to spawn and are likely harvested at relatively high rates in fishing seasons occurring prior to May. The majority of recreational recoveries of tagged Feather River Hatchery adult spring chinook occur prior to May. Delaying the opening of the recreational season will provide additional protection to spring chinook by reducing the take of maturing adults.

The Regional Administrator consulted with representatives of the Council and the Commission regarding these adjustments on February 8, 2000. NMFS, by an inseason action issued under 50 CFR 660.411, is delaying the opening dates of the following recreational fisheries south of Point Arena, CA. The size limits and gear restrictions remain unchanged from the Council's recommendations for the 1999 management measures. The State of California will manage these recreational fisheries in state waters adjacent to these areas of the exclusive economic zone in accordance with this Federal action.

As provided by the inseason notification procedures at 50 CFR 660.411, actual notice to fishermen of these actions has been given by telephone hotline number 206-526-6667 or 800-662-9825 on February 8, 2000, and notice will be provided by U.S. Coast Guard Notice to Mariners broadcasts on Channel 16 VHF-FM and 2182 kHz on March 25 through April 15 for the area from Point Arena to Pigeon Point, California, and March 11 through April 1 for the area from Pigeon Point, California, to U.S.-Mexico Border.

This action is consistent with fishery regimes established by the U.S.-Canada Pacific Salmon Commission, ocean escapement goals, conservation of the salmon resource, adjudicated Indian fishing rights, and the ocean allocation scheme in the Pacific Coast Salmon Plan.

NMFS has determined that good cause exists for this action to be issued without affording a prior opportunity for public comment. This action must be effective before the previously scheduled opening dates in order to protect Central Valley spring chinook and to be consistent with the State of California management measures. This document does not apply to other fisheries that may be operating in other areas.

Pigeon Point to U.S.-Mexico Border

The season will open April 1, 2000. All salmon except coho will be limited to two fish per day, with a minimum size limit of 24 in (61 cm). North of Point Conception, special gear restrictions C.3. (circle hooks when mooching) and C.2. (one rod per angler), specified in the 1999 management measures, continue to apply.

Point Arena to Pigeon Point

The season will open April 15, 2000. All salmon except coho will be limited to two fish per day, with a minimum size limit of 24 in (61 cm). Special gear restrictions C.3. (circle hooks when mooching) and C.2. (one rod per angler), specified in the 1999 management measures, continue to apply.

Classification

This action is authorized by 50 CFR 660.409 and 660.411 and is exempt from review under Executive Order 12866.

Authority: 16 U.S.C. 1801 et seq.

Dated: February 29, 2000.
Bruce Morehead,
Acting Director, Office of Sustainable Fisheries, National Marine Fisheries Service.

[FR Doc. 00-5196 Filed 3-1-00; 9:50 am]

BILLING CODE 3510-22-F